OFFICE OF PERSONNEL MANAGEMENT

Submission for Review: Application for Death Benefits Under the Civil Service Retirement System (CSRS), SF 2800; Documentation and Elections in Support of Application for Death Benefits When Deceased Was an Employee at the Time of Death (CSRS), SF 2800A, 3206-0156

AGENCY: U.S. Office of Personnel Management.

ACTION: 60-Day notice and request for comments.

SUMMARY: The Retirement Services, Office of Personnel Management (OPM) offers the general public and other Federal agencies the opportunity to comment on an extension, without change, of a currently approved information collection (ICR) 3206-0156, Application for Death Benefits (CSRS)/Documentation and Elections in Support of Application for Death Benefits When Deceased Was an Employee at the Time of Death (CSRS). As required by the Paperwork Reduction Act of 1995, (Pub. L. 104-13, 44 U.S.C. chapter 35) as amended by the Clinger-Cohen Act (Pub. L. 104-106), OPM is soliciting comments for this collection.

DATES: Comments are encouraged and will be accepted until September 15, 2014. This process is conducted in accordance with 5 CFR 1320.1.

ADDRESS: Interested persons are invited to submit written comments on the proposed information collection to the Retirement Services, Operations Support, Office of Personnel Management, Union Square Room 370, 1900 E Street NW., Washington, DC 20415, Attention: Alberta Butler, or sent via electronic mail to Alberta.Butler@opm.gov.

FOR FURTHER INFORMATION CONTACT: A copy of this ICR, with applicable supporting documentation, may be obtained by contacting the Retirement Services Publications Team, Office of Personnel Management, 1900 E Street NW., Room 3316-AC, Washington, DC 20503, Attention: Cyrus S. Benson or sent via electronic mail to Cyrus.Benson@opm.gov.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SF 2800 is needed to collect information so that OPM can pay death benefits to the survivors of Federal employees and annuitants. SF 2800A is needed for deaths in service so that survivors can make the needed elections regarding military service.

Analysis

Agency: Retirement Operations, Retirement Services, Office of Personnel Management.

Title: Application for Death Benefits Under the Civil Service Retirement System and Documentation and Elections in Support of Application for Death Benefits When Deceased Was an Employee at the Time of Death.

OMB Number: 3206-0156.

Frequency: On occasion.

Affected Public: Individuals or Households.

Number of Respondents: SF 2800 = 68,000 and SF 2800A = 6,800.

Estimated Time per Respondent: 45 minutes.

Total Burden Hours: 56,100 hours.

U.S. Office of Personnel Management.
Katherine Archuleta,
Director.

[FR Doc. 2014-16639 Filed 7-15-14; 8:45 am]

BILLING CODE 6325-38-P